NATIONAL SCIENCE FOUNDATION

Advisory Committee for GPRA Performance Assessment (#13853); Notice of Meeting

In accordance with the Federal Advisory Committee Act (Pub. L. 92-463, as amended) the National Science Foundation announces the following meeting.

Name: Advisory Committee for GPRA Performance Assessment (AC/GPA) (#13853).

Date and Time: September 18, 2002, 8:30 a.m.-10 am; September 19, 2002, 8:30 a.m.-12 p.m.; September 20, 2002, 8:30 a.m.-4 p.m.;

Place: National Science Foundation 4201 Wilson Boulevard, Arlington, VA 22230, Room 1235.

Contact: Mr. Thomas N. Cooley, Chief Financial Officer, National Science Foundation, Room 405, Arlington, Virginia. Phone: 703/292-8200.

Type of Meeting: Open. National Science Foundation, Suite 405, 4201 Wilson Boulevard, Arlington, VA 22230; Telephone: (703) 292-4609. If you are attending the meeting and need access to the NSF building, please contact Carol Heffner cheffner@nsf.gov so that your name can be added to the building access list.

Minutes: May be obtained from the contact person listed above.

Purpose of Meeting: To provide advice and recommendations to the National Science Foundation (NSF) Director regarding the Foundation's performance as it relates to the Government Performance and Results Act of 1993 (GPRA).

Agenda: Topics include results (outcomes and outputs) of past awards as they relate to indicators associated with the National Science Foundation's PEOPLE, IDEAS and TOOLS outcome goals; the quality, relevance, and balance of NSF award portfolios; and potential future impact of NSF investment portfolios.

Dated: August 21, 2002.
Susanne Bolton,
Committee Management Officer.

[FR Doc. 02-21898 Filed 8-28-02; 8:45 am]

BILLING CODE 7555-01-M